DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.):

Applicant: Zoological Society of San Diego, San Diego, CA, PRT-036157

The applicant requests a permit to import three male and three female captive born Przewalski's wild horse (Equus p. przewalskii) from the Calgary Zoo, Calgary Alta, Canada for the purpose of enhancement of the survival of the species through captive propagation.

Applicant: Bell Bud, Houston, TX, PRT-036529

The applicant requests a permit to import the sport-hunted trophy of one male bontebok (Damaliscus pygargus dorcas) culled from a captive herd maintained under the management program of the Republic of South Africa, for the purpose of enhancement of the survival of the species.

Applicant: Triple S Game Farm, Edmond, OK, PRT-35441

The applicant requests a permit to export biological samples of the following endangered pheasant species: imperial (Lophura imperialis), Edward's (Lophura edwardsi), Swinhoe's (Lophura swinhoii), white-eared (Crossoptilon crossoptilon), brown-eared (Crossoptilon mantchuricum), cheer (Catreus wallichi), Elliot's (Syrmaticus ellioti), bar-tailed (Syrmaticus humiae), mikado (Syrmaticus mikado); to Dr. Ettore Randi, National Institute of Wildlife, Ozzano Emilia, Italy, for scientific research for the purpose of enhancement of the survival of the species.

Applicant: Marc A. Cheramie, Golden Meadow, LA, PRT-036303

The applicant requests a permit to import the sport-hunted trophy of one male bontebok (Damaliscus pygargus dorcas) culled from a captive herd maintained under the management program of the Republic of South Africa, for the purpose of enhancement of the survival of the species.

Applicant: Jeffrey R. Powell, Yale University, Dept. of Ecology and Evolutionary Biology, New Haven CT, PRT-036010

The applicant requests a permit to re-export 171 blood samples collected from Galapagos tortoises (Geochelone nigra) to Michel C. Milinkovitch, Unit of Evolutionary Genetics, Dept. of Molecular Biology, Free University of Belgium, Gosselies, Belgium, for the purpose of scientific research. The samples were originally collected by the applicant from wild tortoises in the Galapagos Islands, Ecuador, and imported to the United States under permit no. US784934.

Applicant: Wildlife Conservation Society, Bronx, NY, PRT-811776

The applicant requests re-issuance of a permit to import feathers dropped from wild and captive-born birds, which are obtained through various international institutions and through collecting conducted during field studies, for the purpose of the scientific research. This notification covers activities conducted by the applicant over a five year period.

Written data or comments should be submitted to the Director, U.S. Fish and Wildlife Service, Division of Management Authority, 4401 North Fairfax Drive, Room 700, Arlington, Virginia 22203 and must be received by the Director within 30 days of the date of this publication.

Marine Mammals

The public is invited to comment on the following application for a permit to conduct certain activities with marine mammals. The application was submitted to satisfy requirements of the Marine Mammal Protection Act of 1972, as amended (16 U.S.C. 1361 et seq.) and the regulations governing marine mammals (50 CFR 18).

Applicant: Bryce W. Smith, Bay City, OR, PRT-036348

The applicant requests a permit to import a polar bear (Ursus maritimus) sport-hunted from the Southern Beaufort Sea polar bear population in Canada for personal use.

Applicant: J. Herbert Fisher, Jr., Lancaster, PA, PRT-032816

The applicant requests a permit to import a polar bear (Ursus maritimus) sport-hunted from the, M'Clintock Channel polar bear population, Canada, for personal use. On September 19, 2000 (65 FR 56588), the permit request was mistakenly published as a sport-hunted bear from the Lancaster Sound population.

Applicant: Nathan P. Newbern, Ft. Worth, TX, PRT-035772

The applicant requests a permit to import a polar bear (Ursus maritimus) sport-hunted from the Lancaster Sound polar bear population, Canada, for personal use.

Written data or comments, requests for copies of any of these complete applications, or requests for a public hearing on this application should be submitted to the Director, U.S. Fish and Wildlife Service, Division of Management Authority, 4401 North Fairfax Drive, Room 700, Arlington, Virginia 22203 and must be received by the Director within 30 days of the date of this publication. Anyone requesting a hearing should give specific reasons why a hearing would be appropriate. The holding of such a hearing is at the discretion of the Director.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: December 1, 2000.
Charlie R. Chandler,
Chief, Branch of Permits, Division of Management Authority.

[FR Doc. 00-31222 Filed 12-6-00; 8:45 am]

BILLING CODE 4310-55-U